DEPARTMENT OF COMMERCE

International Trade Administration

[A-570-983]

Drawn Stainless Steel Sinks From the People's Republic of China: Final Rescission of Antidumping Duty New Shipper Review; 2012-2013

AGENCY: Enforcement of Compliance, International Trade Administration, Department of Commerce.

SUMMARY: On September 30, 2014, the Department of Commerce (“Department”) published its preliminary intent to rescind the new shipper review (“NSR”) of the antidumping duty order on drawn stainless steel sinks (“drawn sinks”) from the People's Republic of China (“PRC”) covering the period of review (“POR”) of October 4, 2012 through October 14, 2013 for Hubei Foshan Success Imp. & Exp. Co. Ltd. (“Foshan Success”).¹ Based on our analysis of comments received subsequent to the Preliminary Rescission, the Department continues to find that Foshan Success' sale was not bona fide. As a result, the Department is rescinding this NSR.

¹ See Drawn Stainless Steel Sinks From the People's Republic of China: Preliminary Intent To Rescind Antidumping Duty New Shipper Review; 2012-2013, 79 FR 58743 (September 30, 2014) (“Preliminary Rescission”).

DATES: Effective Date: January 27, 2015.

FOR FURTHER INFORMATION CONTACT: Joy Zhang or Erin Begnal, AD/CVD Operations, Office III, Enforcement and Compliance, International Trade Administration, U.S. Department of Commerce, 14th Street and Constitution Avenue NW., Washington, DC 20230; telephone: (202) 482-1168 or (202) 482-1442, respectively.

SUPPLEMENTARY INFORMATION:

Background

On September 30, 2014, the Department published the Preliminary Rescission. On October 22, 2014, Foshan Success submitted a case brief. On November 4, 2014, Petitioner ² submitted a rebuttal brief. On December 12, 2014, the Department extended the time period for issuing the final results by 30 days until January 21, 2015.³

² Petitioner is Elkay Manufacturing Company.

³ See Memorandum to Christian Marsh, Deputy Assistant Secretary for Antidumping and Countervailing Duty Operations, re: Extension of Deadline for Final Results of New Shipper Review of Drawn Stainless Steel Sinks From the People's Republic of China, dated December 12, 2014.

Scope of the Order

The products covered by the scope of the order are drawn stainless steel sinks with single or multiple drawn bowls, with or without drain boards, whether finished or unfinished, regardless of type of finish, gauge, or grade of stainless steel. The products covered by this order are currently classified in the Harmonized Tariff Schedule of the United States (“HTSUS”) under statistical reporting numbers 7324.10.0000 and 7324.10.00.10. Although the HTSUS subheadings are provided for convenience and customs purposes, the written description of the scope is dispositive.⁴

⁴ See “Issues and Decision Memorandum for Final Results of Antidumping Duty New Shipper Review: Drawn Stainless Steel Sinks From the People's Republic of China” from Christian Marsh, Deputy Assistant Secretary for Antidumping and Countervailing Duty Operations to Paul Piquado, Assistant Secretary for Enforcement and Compliance, dated concurrently with this notice (“Issues and Decision Memorandum”) and hereby adopted by this notice, for a complete description of the Scope of the Order.

Final Rescission of New Shipper Review

As we explain in the Issues and Decision Memorandum and in the proprietary Foshan Success Bona Fides Memorandum ⁵ issued with the Preliminary Rescission, due to the totality of circumstances, including the price and quantity of Foshan Success' single sale and the importer's failure to provide evidence that the subject merchandise was resold at a profit, we continue to find that Foshan Success' sale is not bona fide. As a result, we are rescinding the new shipper review of Foshan Success.

⁵ See Memorandum to Melissa Skinner, Director, Office III, Antidumping and Countervailing Duty Operations, through Erin Begnal, Program Manager, Office III, Antidumping and Countervailing Duty Operations, from Joy Zhang, International Trade Analyst, titled “Antidumping Duty New Shipper Review of Drawn Stainless Steel Sinks From the People's Republic of China: Bona Fide Sales Analysis for Hubei Foshan Success Imp. & Exp. Co., Ltd.,” dated September 23, 2014.

Analysis of Comments Received

All issues raised in the case and rebuttal briefs are addressed in the Issues and Decision Memorandum, which is dated concurrently and is hereby adopted by this notice. A list of the issues raised in the briefs and addressed in the Issues and Decision Memorandum is appended to this notice. The Issues and Decision Memorandum is a public document and is on file electronically via Enforcement and Compliance's centralized electronic service system (“ACCESS”).⁶ ACCESS is available to registered users at http://access.trade.gov and in the Department's Central Records Unit, Room 7064 of the main Department of Commerce building. In addition, a complete version of the Issues and Decision Memorandum can be accessed directly on the Internet at http://enforcement.trade.gov/frn/index.html. The signed and electronic versions of the Issues and Decision Memorandum are identical in content.

⁶ On November 24, 2014, Enforcement and Compliance changed the name of Enforcement and Compliance's AD and CVD Centralized Electronic Service System (“IA ACCESS”) to AD and CVD Centralized Electronic Service System (“ACCESS”). The Web site location was changed from http://iaaccess.trade.gov to http://access.trade.gov. The Final Rule changing the references to the Regulations can be found at 79 FR 69046 (November 20, 2014).

Cash Deposit Requirements

Effective upon publication of the final rescission of the NSR of Foshan Success, the Department will instruct CBP to discontinue the option of posting a bond or security in lieu of a cash deposit for entries of subject merchandise by Foshan Success. Cash deposits will be required for exports of subject merchandise by Foshan Success entered, or withdrawn from warehouse, for consumption on or after the publication date at the PRC-wide rate.

Assessment Instructions

As the result of the rescission of NSR of Foshan Success, the entries of Foshan Success covered by this NSR will be assessed at the PRC-wide rate.

Notification to Importers

This notice serves as a reminder to importers of their responsibility under 19 CFR 351.402(f)(2) to file a certificate regarding the reimbursement of antidumping and/or countervailing duties prior to liquidation of the relevant entries during this review period. Failure to comply with this requirement could result in the Secretary of Commerce's presumption that reimbursement of the antidumping and/or countervailing duties occurred and the subsequent assessment of double antidumping duties.

Return of Destruction of Proprietary Information

This notice serves as a reminder to parties subject to the administrative protective order (“APO”) of their responsibility concerning the disposition of proprietary information disclosed under the APO in accordance with 19 CFR 351.305(a)(3). Timely written notification of return or destruction of APO materials, or conversion to judicial protective order, is hereby requested. Failure to comply with the regulations and the terms of an APO is a sanctionable violation.

This notice is issued and published in accordance with sections 751(a)(2)(B) and 777(i) of the Act, and 19 CFR 351.214.

Dated: January 21, 2015.
Paul Piquado,
Assistant Secretary for Enforcement and Compliance.

Appendix—List of Topics Discussed in the Issues and Decision Memorandum

I. Summary

II. Background

III. Scope of the Order

IV. Discussion of the Issues

Comment 1: Whether Foshan Success' Sale is Bona Fide

[FR Doc. 2015-01502 Filed 1-26-15; 8:45 am]

BILLING CODE 3510-DS-P